DEPARTMENT OF STATE

[Public Notice 5698]

Debarment Involving Henry L. Lavery III and Security Assistance International, Inc.

ACTION: Notice.

SUMMARY: Notice is hereby given that the Department of State has imposed an administrative debarment against Henry L. Lavery III and Security Assistance International, Inc. pursuant to a December 12, 2006 Consent Agreement and other authority based upon section 127.7(a) and (b)(2) of the International Traffic in Arms Regulations (ITAR) (22 CFR sections 120 to 130).

EFFECTIVE DATE: December 12, 2006.

FOR FURTHER INFORMATION CONTACT: David Trimble, Director, Office of Defense Trade Controls Compliance, Bureau of Political-Military Affairs, Department of State (202) 663-2700.

SUPPLEMENTARY INFORMATION: Section 127.7 of the ITAR authorizes the Assistant Secretary of State for Political-Military Affairs to debar any person who has been found pursuant to Section 128 of the ITAR to have committed a violation of the Arms Export Control Act (AECA) or the ITAR of such character as to provide a reasonable basis for the Office of Defense Trade Controls Compliance to believe that the violator cannot be relied upon to comply with the AECA or ITAR in the future. Such debarment prohibits the subject from participating directly or indirectly in the export of defense articles or defense services for which a license or approval is required by the ITAR.

Debarred persons are generally ineligible to participate in activity regulated under the ITAR (see e.g., sections 120.1(c) and (d), 126.7, 127.1(c), and 127.11(a)). The Department of State will not consider applications for licenses or requests for approvals that involve any debarred person.

Henry L. Lavery III doing business as Security Assistance International, Inc., (SAI) was under a Consent Agreement dated June 3, 1999, as a result of a Proposed Charging Letter alleging numerous ITAR violations between April 1993 and April 1999. Mr. Lavery and his company, SAI, were cited for submitting export applications on behalf of clients containing falsified applicant signatures; failing to maintain records as required under the ITAR; obtaining export licenses for firms whose registrations expired or who were never registered; and brokering without being registered and without authorization. Under the June 3, 1999, Consent Agreement, Mr. Lavery was required to pay a $10,000 penalty, register as a broker, reconstruct export records, cease participating directly or indirectly in exports of defense articles and/or defense services and implement a compliance program outlining SAI's operating procedures and internal controls for adherence to the ITAR. On or about August 1, 2001, Mr. Lavery completed the requirements of the Consent Agreement and his export privileges were reinstated by the Department.

On July 11, 2005, the Office of Defense Trade Controls Compliance conducted a review of SAI's ITAR compliance program. The review determined that many of the practices, which led to the June 3, 1999, Consent Agreement, had not been corrected. A July 14, 2003 license application for the temporary export of Night Vision equipment was submitted by Mr. Lavery on behalf of an unregistered company; Mr. Lavery was unable to provide complete records and/or was unable to produce records required to be maintained by the ITAR for his current authorized exports; and Mr. Lavery violated a license proviso requiring proof of export be provided to the Department.

On December 12, 2006, as the result of these continuing violations, the Department and Mr. Lavery entered into a new Consent Agreement, which debarred Mr. Lavery and SAI until December 12, 2007. Reinstatement after December 12, 2007 is not automatic but contingent on full compliance with the terms of the December 12, 2006 Consent Agreement and evidence that the underlying problems that gave rise to the violations have been corrected. At the end of the debarment period, Mr. Lavery and SAI may apply for reinstatement. Until licensing privileges are reinstated, Mr. Lavery and SAI will remain debarred.

This notice is provided to make the public aware that the persons listed above are prohibited from participating directly or indirectly in any brokering activities and in any export from or temporary import into the United States of defense articles, related technical data, or defense services in all situations covered by the ITAR.

Exceptions may be made to this denial policy on a case-by-case basis at the discretion of the Directorate of Defense Trade Controls. However, such an exception would be granted only after a full review of all circumstances, paying particular attention to the following factors: Whether an exception is warranted by overriding U.S. foreign policy or national security interests; whether an exception would further law enforcement concerns that are consistent with foreign policy or national security interests of the United States; or whether other compelling circumstances exist that are consistent with the foreign policy or national security interests of the United States, and law enforcement concerns.

This notice involves a foreign affairs function of the United States encompassed within the meaning of the military and foreign affairs exclusion of the Administrative Procedures Act. Because the exercise of this foreign affairs function is highly discretionary, it is excluded from review under the Administrative Procedures Act.

Dated: January 29, 2007.
Ambassador Stephen Mull,
Acting Assistant Secretary for Political-Military Affairs.

[FR Doc. E7-2831 Filed 2-16-07; 8:45 am]

BILLING CODE 4710-25-P